FEDERAL COMMUNICATIONS COMMISSION

47 CFR Part 54

[WC Docket Nos. 10-90, 14-259 and 14-93; FCC 14-98, DA 15-383; Report No. 3021]

Petitions for Reconsideration of Action in Rulemaking Proceeding

AGENCY: Federal Communications Commission.

ACTION: Petition for reconsideration.

SUMMARY: Petitions for Reconsideration (Petitions) have been filed in the Commission's Rulemaking proceeding by Kevin L. Tucker, on behalf of AirNorth Communications, Inc.; Michael D. Donnell on behalf of Michael D. Donnell d/b/a San Joaquin Broadband; and Hamid Vahdatipour, on behalf of Lake Region Technology & Communications, LLC.

DATES: Oppositions to the Petitions must be filed on or before June 4, 2015. Replies to an opposition must be filed on or before June 15, 2015.

ADDRESSES: Federal Communications Commission, 445 12th Street SW., Washington, DC 20554.

FOR FURTHER INFORMATION CONTACT: Alexander Minard, Telecommunications Access Policy Division, Wireline Competition Bureau, (202) 418-7400, email: Alexander.Minard@fcc.gov, TTY (202) 418-0484.

SUPPLEMENTARY INFORMATION: This is a summary of Commission's document, Report No. 3021, released May 11, 2015. The full text of the Petitions is available for viewing and copying in Room CY-B402, 445 12th Street SW., Washington, DC or may be accessed online via the Commission's Electronic Comment Filing System at http://apps.fcc.gov/ecfs/. The Commission will not send a copy of this Notice pursuant to the Congressional Review Act, 5 U.S.C. 801(a)(1)(A) because this notice does not have an impact on any rules of particular applicability.

Subject: FCC Launches Rural Broadband Expansion Experiments, published at 79 FR 45705, August 6, 2014, in WC Docket Nos. 10-90 and 14-58, and published pursuant to 47 CFR 1.429(e). See also § 1.4(b)(1) of the Commission's rules.

Number of Petitions Filed: 3.

Federal Communications Commission.
Marlene H. Dortch,
Secretary.

[FR Doc. 2015-12134 Filed 5-19-15; 8:45 am]

BILLING CODE 6712-01-P